DEPARTMENT OF HEALTH AND HUMAN SERVICES

Administration for Children and Families

Submission for OMB Review; Comment Request

Title: Grant Application Data Summary (GADS) Form.

OMB No.: New Collection.

Description: The Grant Application Data Summary (GADS) collects information from applicants seeking grants from the Administration for Native Americans (ANA). ANA awards annual grants in three competitive areas. Previously, ANA collected information using a separate form for each competitive area (OMB No. 0970-0261, OMB No. 0970-0263, and OMB No. 0970-0265). ANA has consolidated the three previous information collections into the single GADS instrument.

Respondents: Tribal Governments, Native Non-profits, Tribal Colleges and Universities.

Annual Burden Estimates
Instrument | Number of respondents | Number of responses per respondent | Average burden hours per response | Total burden hours
Grant Application Summary | 500 | 1 | .5 | 250

Estimated Total Annual Burden Hours: 250.

Additional Information: Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration for Children and Families.

Dated: April 16, 2007.
Robert Sargis,
Reports Clearance Officer.

[FR Doc. 07-1965 Filed 4-19-07; 8:45 am]

BILLING CODE 4184-01-M